DEPARTMENT OF AGRICULTURE

Forest Service

De Soto Resource Advisory Committee

AGENCY: Forest Service, USDA.

ACTION: Notice of meeting.

SUMMARY: The De Soto Resource Advisory Committee will meet in New Augusta, MS. The committee is meeting as authorized under the Secure Rural Schools and Community Self-Determination Act (Pub. L. 110-343) and in compliance with the Federal Advisory Committee Act. The purpose of the committee is to improve collaborative relationships and to provide advice and recommendations to the Forest Service concerning projects and funding consistent with the title II of the Act. The meeting is open to the public. The purpose of the meeting is to select projects that would enhance forest ecosystems or restore and improve land health and water quality on the De Soto National Forest in Wayne and Perry counties.

DATES: The meeting will be held on August 4, 2011, and will begin at 6 p.m.

ADDRESSES: The meeting will be held at the Perry County Board of Supervisors Building, 101 Main Street, New Augusta, MS 39462. Written comments may be submitted as described under Supplementary Information.

All comments, including names and addresses when provided, are placed in the record and are available for public inspection and copying. The public may inspect comments received at De Soto Ranger District, 654 West Frontage Road, Wiggins, MS 39577. Visitors are encouraged to call ahead to 601-528-6160 to facilitate entry into the building.

FOR FURTHER INFORMATION CONTACT: Edward Hunter, RAC coordinator, USDA, De Soto Ranger District, 654 West Frontage Road, Wiggins, MS 39577; (601) 528-6160; E-mail ehunter@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. The following business will be conducted: (1) Welcome; (2) Review and approval of the minutes from the last meeting; (3) Presentation, Consideration, and Approval of County project proposals; (4) Set next meeting date; and (5) Public Comment. Persons who wish to bring related matters to the attention of the Committee may file written statements with the Committee staff before or after the meeting. Individuals wishing to make an oral statement should request in writing by August 2, 2011 to be scheduled on the agenda. Written comments and requests for time for oral comments must be sent to De Soto Ranger District, 654 West Frontage Road, Wiggins, MS 39577, or by e-mail to ehunter@fs.fed.us, or via facsimile to 601-528-6193.

Dated: July 5, 2011.
Ronald A Smith,
Designated Federal Official.

[FR Doc. 2011-18641 Filed 7-22-11; 8:45 am]

BILLING CODE 3410-11-P